DEPARTMENT OF DEFENSE

48 CFR Part 252

Defense Federal Acquisition Regulation Supplement; Technical Amendments

AGENCY: Department of Defense (DoD).

ACTION: Final rule.

SUMMARY: DoD is making technical amendments to the Defense Federal Acquisition Regulation Supplement to update clause dates and references.

EFFECTIVE DATE: May 13, 2004.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Part 252

Government procurement.

Michele P. Peterson,
Executive Editor, Defense Acquisition Regulations Council.

Therefore, 48 CFR Part 252 is amended as follows:

1. The authority citation for 48 CFR Part 252 continues to read as follows:

Authority: 41 U.S.C. 421 and 48 CFR Chapter 1.

PART 252—SOLICITATION PROVISIONS AND CONTRACT CLAUSES

252.212-7001 [Amended]

2. Section 252.212-7001 is amended as follows:

a. In paragraph (b), in entry “252.225-7016”, by removing “(APR 2003)” the first place it appears and adding in its place “(MAY 2004)''; and

b. In paragraph (b), in entry “252.232-7003”, by removing “(DEC 2003)” and adding in its place “(JAN 2004)''.

252.225-7016 [Amended]

3. Section 252.225-7016 is amended as follows:

a. By revising the clause date to read “MAY 2004''; and

b. In paragraph (d), in the first sentence, by removing “225.7019-3” and adding in its place “225.7009-3''.

[FR Doc. 04-10882 Filed 5-12-04; 8:45 am]

BILLING CODE 5001-08-P